DEPARTMENT OF TRANSPORTATION

Federal Aviation Administration

14 CFR Part 39

[Docket No. FAA-2005-21342; Directorate Identifier 2004-NM-15-AD; Amendment 39-14229; AD 2005-17-08]

RIN 2120-AA64

Airworthiness Directives; Airbus Model A321 Series Airplanes

AGENCY: Federal Aviation Administration (FAA), Department of Transportation (DOT).

ACTION: Final rule.

SUMMARY: The FAA is adopting a new airworthiness directive (AD) for certain Airbus Model A321 series airplanes. This AD requires repetitive measurements for correct control rod gap of the hold-open mechanism of all emergency doors, and corrective actions if necessary. This AD also requires replacing the control rods with new, improved control rods, which would terminate the repetitive measurements. This AD results from a report that an operator found it impossible to lock emergency doors 2 and 3 in the open position. We are issuing this AD to prevent failure of the emergency doors to lock in the open position, which could interfere with passenger evacuation during an emergency.

DATES: Effective September 27, 2005.

The Director of the Federal Register approved the incorporation by reference of certain publications listed in the AD as of September 27, 2005.

ADDRESSES: You may examine the AD docket on the Internet at http://dms.dot.gov or in person at the Docket Management Facility, U.S. Department of Transportation, 400 Seventh Street SW., Nassif Building, Room PL-401, Washington, DC.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A321 series airplanes. That NPRM was published in the Federal Register on June 3, 2005 (70 FR 32542). That NPRM proposed to require repetitive measurements for correct control rod gap of the hold-open mechanism of all emergency doors, and corrective actions if necessary. The NPRM also proposed to require replacing the control rods with new, improved control rods, which would terminate the repetitive measurements.

Comments

We provided the public the opportunity to participate in the development of this AD. We have considered the comment that has been received on the NPRM.

Support for the Proposed AD

The commenter supports the NPRM.

Explanation of Change to Applicability

We have revised the applicability of the NPRM to identify model designations as published in the most recent type certificate data sheet for the affected models.

Conclusion

We have carefully reviewed the available data, including the comment received, and determined that air safety and the public interest require adopting the AD with the change described previously. We have determined that this change will neither increase the economic burden on any operator nor increase the scope of the AD.

Costs of Compliance

This AD will affect about 28 airplanes of U.S. registry.

The measurement to determine control rod gap will take about 2 work hours per airplane, at an average labor rate of $65 per work hour. Based on these figures, the estimated cost of the measurement for U.S. operators is $3,640, or $130 per airplane, per measurement cycle.

The replacement of the control rods with new, improved, water-resistant control rods will take about 9 work hours per airplane, at an average labor rate of $65 per work hour. Required parts will cost about $400 per airplane. Based on these figures, the estimated cost of the required replacement for U.S. operators is $27,580, or $985 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-17-08 Airbus: Amendment 39-14229. Docket No. FAA-2005-21342; Directorate Identifier 2004-NM-15-AD.

Effective Date

(a) This AD becomes effective September 27, 2005.

Affected ADs

(b) None.

Applicability

(c) This AD applies to Airbus Model A321 series airplanes, certificated in any category; except for those airplanes that have received Airbus Modification 33426 in production.

Unsafe Condition

(d) This AD was prompted by a report that an operator found it impossible to lock emergency doors 2 and 3 in the open position. We are issuing this AD to prevent failure of the emergency doors to lock in the open position, which could interfere with passenger evacuation during an emergency.

Compliance

(e) You are responsible for having the actions required by this AD performed within the compliance times specified, unless the actions have already been done.

Inspection of Emergency Exit Doors

(f) Within 600 flight hours after the effective date of this AD and thereafter at intervals not to exceed 600 flight hours, perform a measurement for correct gap of the control rod of the hold-open mechanism of all emergency doors, in accordance with Airbus All Operators Telex (AOT) A320-52A1120, Revision 02, dated July 10, 2003. If the gap of any control rod is not correct, prior to further flight, apply all necessary corrective actions in accordance with the AOT.

Optional Interim Terminating Action

(g) Replacing the polyamide control rod of any mechanism with an aluminum control rod prior to accomplishing paragraph (h) of this AD, as specified in AOT A320-52A1120, Revision 02, dated July 10, 2003, terminates the repetitive measurement required by paragraph (f) of this AD for that mechanism.

Final Terminating Action

(h) Within 18 months after the effective date of this AD, replace the polyamide or interim aluminum control rods of the release mechanisms with new, improved, water-resistant control rods in accordance with the Accomplishment Instructions of Airbus Service Bulletin A320-52-1121, dated December 12, 2003. This replacement terminates the repetitive measurement required by paragraph (f) of this AD.

Actions Accomplished per Previous Issue of Service Bulletin

(i) Actions accomplished before the effective date of this AD in accordance with Airbus AOT A320-52A1120, dated June 5, 2003; or Revision 01, dated June 19, 2003; are considered acceptable for compliance with the corresponding actions specified in this AD.

No Reporting Requirement

(j) Although the service information specifies procedures for reporting measurement results and control rod replacement to the manufacturer, this AD does not require these reports.

Alternative Methods of Compliance (AMOCs)

(k) The Manager, International Branch, ANM-116, Transport Airplane Directorate, FAA, has the authority to approve AMOCs for this AD, if requested in accordance with the procedures found in 14 CFR 39.19.

Related Information

(l) French airworthiness directive F-2004-040, dated March 31, 2004, also addresses the subject of this AD.

Material Incorporated by Reference

(m) You must use Airbus Service Bulletin A320-52-1121, dated December 12, 2003; and Airbus All Operators Telex A320-52A1120, Revision 02, dated July 10, 2003; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on August 11, 2005.
Kalene C. Yanamura,
Acting Manager, Transport Airplane Directorate, Aircraft Certification Service.

[FR Doc. 05-16458 Filed 8-22-05; 8:45 am]

BILLING CODE 4910-13-P